ENVIRONMENTAL PROTECTION AGENCY

40 CFR Part 52

[EPA-R01-OAR-2018-0099; FRL-9986-97-Region 1]

Air Plan Approval; Connecticut; Volatile Organic Compound Emissions From Consumer Products and Architectural and Industrial Maintenance Coatings; Correction

AGENCY: Environmental Protection Agency (EPA).

ACTION: Final rule; correction.

SUMMARY: This document corrects the preamble in the DATES section to a final rule published in the Federal Register on November 19, 2018. The Environmental Protection Agency (EPA) published a final rule approving Connecticut's State Implementation Plan (SIP) revision that amended requirements for controlling volatile organic compound (VOC) emissions from consumer products and architectural and industrial maintenance (AIM) coatings by revising Regulations of Connecticut State Agencies (RCSA) sections 22a-174-40, 22a-174-41, and adding section 22a-174-41a.

DATES: This final rule correction is effective on December 4, 2018.

FOR FURTHER INFORMATION CONTACT: Ariel Garcia, Air Quality Planning Unit, U.S. Environmental Protection Agency, EPA Region 1 Regional Office, 5 Post Office Square, Suite 100 (Mail code: OEP05-2), Boston, MA 02109-3912, telephone number: (617) 918-1660, email garcia.ariel@epa.gov.

SUPPLEMENTARY INFORMATION: The EPA issued a final rule in the Federal Register on November 19, 2018 (83 FR 58188). An error occurred in the DATES section where it erroneously stated that “Written comments must be received on or before December 19, 2018.” The EPA previously provided an opportunity for written comments, on our proposed approval of Connecticut's SIP revision, in a proposed rule issued in the Federal Register on June 4, 2018 (83 FR 25615). Therefore, this corrective action merely designates the Final rule as being effective on December 19, 2018.

Correction

In FR Doc. 2018-24895 appearing on page 58188 in the Federal Register of Monday, November 19, 2018, the following correction is made:

On page 58188, in the second column, under the heading entitled DATES remove the text “Written comments must be received on or before December 19, 2018.” and add in its place the text “This final rule is effective on December 19, 2018.”.

Dated: November 28, 2018.
Alexandra Dunn,
Regional Administrator, EPA Region 1.

[FR Doc. 2018-26286 Filed 12-3-18; 8:45 am]

BILLING CODE 6560-50-P